FEDERAL COMMUNICATIONS COMMISSION

47 CFR Part 73

[DA 00-2570; MM Docket No. 00-228, RM-9991]

Radio Broadcasting Services; Linden, White Oak, Lufkin, Corrigan, Mount Enterprise, and Pineland, TX and Zwolle, LA

AGENCY: Federal Communications Commission.

ACTION: Proposed rule.

SUMMARY: This document requests comments on a petition filed by OARA, Inc. proposing the reallotment of Channel 257C2 from Linden, Texas, to White Oak, Texas, as that community's first local service. The coordinates for Channel 257C2 at White Oak are 32-30-32 and 94-50-41. To accommodate the allotment at White Oak, we shall also propose to substitute Channel 261C2 for Channel 257C2 at Lufkin, Texas, and modifiy the license for Station KUEZ at coordinates 31-24-28 and 94-45-53; substitute Channel 257A for vacant Channel 261A at Corrigan, Texas, at coordinates 30-59-47 and 94-49-36; reallot Channel 260A from Mount Enterprise, Texas to Zwolle, Louisiana, at coordinates 31-37-53 and 93-38-39; and allot Channel 256A at Pineland, Texas at coordinates 31-08-48 and 93-56-53.

DATES: Comments must be filed on or before January 2, 2000, and reply comments on or before January 17, 2000.

ADDRESSES: Federal Communications Commission, 445 Twelfth Street, SW., Washington, DC 20554. In addition to filing comments with the FCC, interested parties should serve the petitioner's counsel, as follows: Ann Bavender, Fletcher, Heald & Hildreth, P.L.C., 1300 N. 17th Street, 11th Floor, Arlington, Virginia 22209.

FOR FURTHER INFORMATION CONTACT: Kathleen Scheuerle, Mass Media Bureau, (202) 418-2180.

SUPPLEMENTARY INFORMATION: This is a summary of the Commission's Notice of Proposed Rule Making, MM Docket No. 00-228, adopted November 1, 2000, and released November 9, 2000. The full text of this Commission decision is available for inspection and copying during normal business hours in the Commission's Reference Center 445 Twelfth Street, SW, Washington, DC 20554. The complete text of this decision may also be purchased from the Commission's copy contractors, International Transcription Services, Inc., 1231 20th Street, NW., Washington, DC 20036, (202) 857-3800, facsimile (202) 857-3805.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Texas, is amended by removing Linden, Channel 257C2 and adding White Oak, Channel 257C2, by removing Channel 257C2 at Lufkin and adding Channel 261C2 at Lufkin, by removing Channel 261A at Corrigan and adding Channel 257A at Corrigan, by removing Channel 260A and Mount Enterprise, and by adding Pineland, Channel 256A.

3. Section 73.202(b), the Table of FM Allotments under Louisiana, is amended by adding Zwolle, Channel 260A.

Federal Communications Commission.
John A. Karousos,
Chief, Allocations Branch, Policy and Rules Division, Mass Media Bureau.

[FR Doc. 00-30689 Filed 11-30-00; 8:45 am]

BILLING CODE 6712-01-P